DEPARTMENT OF TRANSPORTATION

Federal Aviation Administration

14 CFR Part 39

[Docket No. FAA-2017-0839; Product Identifier 2017-NE-31-AD; Amendment 39-19614; AD 2019-07-03]

RIN 2120-AA64

Airworthiness Directives; Zodiac Seats France Cabin Attendant Seats

AGENCY: Federal Aviation Administration (FAA), DOT.

ACTION: Final rule.

SUMMARY: We are adopting a new airworthiness directive (AD) for all Zodiac Seats France 536-Series Cabin Attendant Seats. This AD was prompted by potential risk of premature corrosion on the seat structure and clamps. This AD requires inspection and, if damage or corrosion is found, modification of all Zodiac Seats France 536-Series Cabin Attendant Seats. This AD also allows modification and re-identification of the seats as an optional terminating action to the repetitive inspection requirements of this AD. We are issuing this AD to address the unsafe condition on these products.

DATES: This AD is effective May 16, 2019.

The Director of the Federal Register approved the incorporation by reference of a certain publication listed in this AD as of May 16, 2019.

ADDRESSES: For service information identified in this final rule, contact Safran Seats France, 61, Rue Pierre Curie, CS20001, Plaisir Cedex, France phone: + 33 977 428 378; email: AOG.3S@safrangroup.com; website: https://www.safran-group.com. You may view this service information at the FAA, Engine & Propeller Standards Branch, 1200 District Avenue, Burlington, MA 01803. For information on the availability of this material at the FAA, call 781-238-7759. It is also available on the internet at http://www.regulations.gov by searching for and locating Docket No. FAA-2017-0839.

Examining the AD Docket

You may examine the AD docket on the internet at http://www.regulations.gov by searching for and locating Docket No. FAA-2017-0839; or in person at Docket Operations between 9 a.m. and 5 p.m., Monday through Friday, except Federal holidays. The AD docket contains this final rule, the mandatory continuing airworthiness information (MCAI), the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dorie Resnik, Aerospace Engineer, Boston ACO Branch, FAA, 1200 District Avenue, Burlington, MA 01803; phone: 781-238-7693; fax: 781-238-7199; email: dorie.resnik@faa.gov.

SUPPLEMENTARY INFORMATION:

Discussion

We issued a notice of proposed rulemaking (NPRM) to amend 14 CFR part 39 by adding an AD that would apply to all Zodiac Seats France 536-Series Cabin Attendant Seats. The NPRM published in the Federal Register on September 14, 2018 (83 FR 46679). The NPRM was prompted by potential risk of premature corrosion on the seat structure and clamps. The NPRM proposed to require inspection and modification of all Zodiac Seats France 536-Series Cabin Attendant Seats. We are issuing this AD to address the unsafe condition on these products.

The European Union Aviation Safety Agency (EASA), which is the Technical Agent for the Member States of the European Community, has issued EASA AD 2016-0167R1, dated February 2, 2018 (corrected March 1, 2018), to address the unsafe condition on these products. The MCAI states:

Cases of corrosion and cracks were found on Zodiac Seats France CAS 536 rear cabin attendant seats installed on some ATR 42 and ATR 72 aeroplanes. The detected damage was located on the lower parts of the attendant seat, at the level of the seat-to-floor interface.

This condition, if not detected and corrected, could lead to failure of the seat occupied by the cabin attendant, possibly resulting in injury to the seat occupant.

To address this potential unsafe condition, Zodiac Seats France issued Service Bulletin (SB) No. 536-25-002 to provide inspection instructions.

Consequently, EASA issued AD 2016-0167, requiring repetitive inspections of the affected attendant seats, and, depending on findings, accomplishment of the temporary corrective action(s). Since that AD was issued, Zodiac Seats France developed a solution preventing this kind of damage and published SB No. 536-25-004, providing instructions for modification and re-identification of affected seats.

For the reason described above, this [EASA] AD is revised to include reference to an optional terminating action.

You may obtain further information by examining the MCAI in the AD docket on the internet at http://www.regulations.gov by searching for and locating Docket No. FAA-2017-0839.

Addition of Optional Terminating Action

Since EASA issued its AD No. 2016-0167, dated August 17, 2016, Zodiac Seats France developed a solution preventing the type of corrosion and cracks identified in that EASA AD and published SB No. 536-25-004, Rev. 0, dated October 19, 2017, which provides instructions for modification and re-identification of the affected seats. EASA subsequently revised its AD 2016-0167 with the publication of AD No. 2016-0167R1, dated February 2, 2018 (corrected March 1, 2018). In the NPRM, we had referenced EASA AD 2016-0167, dated August 17, 2016, but are now updating this reference in our final rule AD to EASA AD No. 2016-0167R1. We are also revising our AD to include the optional terminating action identified in EASA AD 2016-0167R1.

Revision to Costs of Compliance Section

We revised the Costs of Compliance section by removing the estimated costs for replacement of parts (seat structures) and adding On-condition costs for replacement of parts (seat structures). We have no way of estimating how many parts would require replacement.

Comments

We gave the public the opportunity to participate in developing this final rule. The following presents the comment received on the NPRM and the FAA's response to each comment.

Request To Revise Compliance

An individual commenter noted that in an attempt to address and correct the issue of premature corrosion and cracks on Zodiac Seats France 536 series cabin attendant seats, this NPRM would require that these seats be inspected and modified regularly to detect corrosion. The commenter disagreed with this proposal because it fails to eliminate completely the known safety hazard. The commenter reasoned that regular inspection would increase the chances of detecting the corrosion, but would not fix the issues with the seats.

The commenter also argued that the cost of inspecting all 55 [cabin attendant] seats aboard the two aircraft models that use these seats outweighs the cost of seat replacement. The commenter indicated this airworthiness directive should require operators to replace all seats that possibly have this known safety risk of corrosion and cracks. The commenter reasoned that this will not only save the operator time, not having to down an aircraft every three months for the [cabin attendant] seats inspections, but also eliminate the risks of seat failure from corrosion and cracks.

We disagree with requiring replacement of the affected cabin attendant seats. The unsafe condition referenced in this AD is represented by the possible failure of the seat occupied by the cabin attendant, which could result in injury to the cabin attendant. The requirements of this AD adequately address this unsafe condition. We have, however, added an optional terminating action section to this AD to be consistent with EASA AD 2016-0167R1, dated February 2, 2018 (corrected March 1, 2018). This optional terminating action section allows operators to replace the seat's structure instead of continuing inspections.

Conclusion

We reviewed the relevant data, considered the comment received, and determined that air safety and the public interest require adopting this final rule with the change described previously and minor editorial changes. We have determined that these minor changes:

• Αre consistent with the intent that was proposed in the NPRM for addressing the unsafe condition; and

• Do not add any additional burden upon the public than was already proposed in the NPRM.

We also determined that these changes will not increase the economic burden on any operator or increase the scope of this final rule.

Related Service Information Under 1 CFR Part 51

We reviewed Zodiac Seats France SB No. 536-25-002, Revision 3, dated November 2, 2016. This SB describes procedures for inspection, repair, or replacement of the seat structure and clamps known to be installed on the main structure. We also reviewed Zodiac Seats France SB No. 536-25-004, Rev. 0, dated October 19, 2017. This SB allows operators to replace the seat structure instead of continuing inspections. This service information is reasonably available because the interested parties have access to it through their normal course of business or by the means identified in the ADDRESSES section.

Costs of Compliance

We estimate that this AD affects 55 seat structures installed on, but not limited to, ATR 42 and ATR 72 model airplanes of U.S. registry.

We estimate the following costs to comply with this AD:

Estimated Costs
Action | Labor cost | Parts cost | Cost per product | Cost on U.S. operators
Seat inspection, visual (on-wing) | 0.2 work-hours × $85 per hour = $17 | $0 | $17 | $935
Seat inspection, (shop visit) | 0.5 work-hours × $85 per hour = $42.50 | 0 | 42.50 | 2,337.50

We estimate the following costs to do any necessary part replacements that would be required based on the results of the inspection. We have no way of determining the number of aircraft that might need these replacements:

On-Condition Costs
Action | Labor cost | Parts cost | Cost per product
Replacement of parts | 2 work-hours × $85 per hour = $170 | $2,000 | $2,170

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-07-03 Zodiac Seats France (formerly SICMA Aero Seat): Amendment 39-19614; Docket No. FAA-2017-0839; Product Identifier 2017-NE-31-AD.

(a) Effective Date

This AD is effective May 16, 2019.

(b) Affected ADs

None.

(c) Applicability

This AD applies to all Zodiac Seats France, 536-Series Cabin Attendant Seats, part number (P/N) 53600, all dash numbers, all serial numbers. These appliances are installed on, but not limited to: Avions de transport regional (ATR) 42 and ATR 72 model airplanes of U.S. registry.

(d) Subject

Joint Aircraft System Component (JASC) Code 2500, Cabin Equipment/Furnishings.

(e) Unsafe Condition

This AD was prompted by corrosion found on the seat structure or on clamps of the Zodiac Seats France 536-Series Cabin Attendant Seats. We are issuing this AD to prevent failure of these seats. The unsafe condition, if not addressed, could result in failure of the seat occupied by the cabin attendant, and possible injury to the cabin attendant.

(f) Compliance

Comply with this AD within the compliance times specified, unless already done.

(g) Required Actions

(1) Within 14 months after the first installation of the seat on an aircraft, or within 3 months after the effective date of this AD, whichever occurs later, remove the seat from the aircraft and perform a detailed visual inspection in accordance with the Accomplishment Instructions, Paragraph 2.B., of Zodiac Seats France Service Bulletin (SB) No. 536-25-002, Revision 3, dated November 2, 2016. If the date of the first installation of a seat on an airplane is unknown, use the date of manufacture of the seat (which can be found on the ID placard of the seat) to determine when the inspection must be accomplished.

(2) Within 3 months after the inspection required by paragraph (g)(1) of this AD, and, thereafter, at intervals not to exceed 3 months, perform a detailed visual inspection in accordance with the Accomplishment Instructions, Paragraphs 2.A. and 2.B., of Zodiac Seats France SB No. 536-25-002, Revision 3, dated November 2, 2016.

(3) If corrosion or other damage is found, before next flight or before (re)installation of the seat on an aircraft, as applicable, repair the seat in accordance with the Accomplishment Instructions, Paragraphs 2.B. and 2.C., of Zodiac Seats France SB No. 536-25-002, Revision 3, dated November 2, 2016.

(4) Temporarily stowing and securing a damaged attendant seat in a retracted position to prevent occupancy, in accordance with the provisions and limitations applicable Master Minimum Equipment List item, is an acceptable alternative method to defer compliance with the requirements of paragraph (g)(3) of this AD.

(h) Installation Prohibition

After the effective date of this AD, do not install on any aircraft an affected Zodiac Seats France 536-Series Cabin Attendant Seat that has accumulated more than 14 months since first installation on any aircraft, unless it has passed an inspection in accordance with the Accomplishment Instructions, Paragraph 2.B., of Zodiac Seats France SB No. 536-25-002, Revision 3, dated November 2, 2016.

(i) Optional Terminating Action

Modification and re-identification (P/N change) of a seat in accordance with the Accomplishment Instructions, paragraph 2.A., of Zodiac Seats France SB No. 536-25-004, Rev. 0, dated October 19, 2017, constitutes a terminating action for the repetitive inspections as required by this AD. Operators are not required to perform the steps in Sections A6 and A9 in paragraph 2.A. of the SB to complete this terminating action.

(j) Credit for Previous Actions

You may take credit for actions required by paragraph (g) of this AD if you performed these actions before the effective date of this AD using Zodiac Seats France SB No. 536-25-002, Revision 2, dated August 29, 2016.

(k) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the ACO Branch, send it to the attention of the person identified in paragraph (l)(1) of this AD.

(2) Before using any approved AMOC, notify your appropriate principal inspector, or lacking a principal inspector, the manager of the local flight standards district office/certificate holding district office.

(l) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Union Aviation Safety Agency AD 2016-0167R1, dated February 2, 2018 (corrected March 1, 2018) for more information. You may examine the EASA AD in the AD docket on the internet at http://www.regulations.gov by searching for and locating it in Docket No. FAA-2017-0839.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Zodiac Seats France Service Bulletin (SB) No. 536-25-002, Revision 3, dated November 2, 2016.

(ii) Zodiac Seats France SB No. 536-25-004, Rev. 0, dated October 19, 2017.

(3) For Zodiac Seats France service information identified in this AD, contact Safran Seats France, 61, Rue Pierre Curie, CS20001, Plaisir Cedex, France phone: + 33 977 428 378; email: AOG.3S@safrangroup.com; website: https://www.safran-group.com.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on April 2, 2018.
Karen M. Grant,
Acting Manager, Engine and Propeller Standards Branch, Aircraft Certification Service.

[FR Doc. 2019-07164 Filed 4-10-19; 8:45 am]

BILLING CODE 4910-13-P